ENVIRONMENTAL PROTECTION AGENCY

[EPA-HQ-OPP-2004-0043; FRL-8155-5]

Chlorpyrifos-methyl; Product Cancellation Order

AGENCY: Environmental Protection Agency (EPA).

ACTION: Notice.

SUMMARY: This notice announces EPA's order for the cancellations, voluntarily requested by the registrants and accepted by the Agency, of products containing the pesticide chlorpyrifos-methyl, pursuant to section 6(f)(1) of the Federal Insecticide, Fungicide, and Rodenticide Act (FIFRA), as amended. This cancellation order follows the July 7, 2004 Federal Register Notice of Receipt of Requests from the chlorpyrifos-methyl registrants to voluntarily cancel their Gustafson Reldan 4E Insecticide and Reldan 4E product registrations. These are not the last chlorpyrifos-methyl products registered for use in the United States. In the July 7, 2004 notice, EPA indicated that it would issue an order implementing the cancellations, unless the Agency received substantive comments within the 30 day comment period that would merit its further review of these requests, or unless the registrants withdrew their requests within this period. The Agency received comments on the notice that merited its further review of the requests. The Agency granted an extension of the existing registration of Gustafson Reldan 4E Insecticide and Reldan 4E until the availability of an equally effective stored grain product was registered. Storicide II, for broad-spectrum control of stored grain insects, was conditionally registered on October 27, 2004. EPA hereby issues in this notice a cancellation order granting the requested cancellations. Any distribution, sale, or use of the chlorpyrifos-methyl products subject to this cancellation order is permitted only in accordance with the terms of this order, including any existing stocks provisions.

DATES: The cancellations are effective December 5, 2007.

FOR FURTHER INFORMATION CONTACT: Dana L. Friedman, Special Review and Reregistration Division (7508P), Office of Pesticide Programs, Environmental Protection Agency, 1200 Pennsylvania Ave., NW., Washington, DC 20460-0001; telephone number: (703) 347-8827; fax number: (703) 305-5290; e-mail address: friedman.dana @epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2004-0043. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the Federal Register listings at http://www.epa.gov/fedrgstr.

II. What Action is the Agency Taking?

This notice announces the cancellation, as requested by registrants, of certain chlorpyrifos-methyl products registered under section 3 of FIFRA. These registrations are listed in sequence by registration number in Table 1 of this unit.

Table 1.—Chlorpyrifos-methyl Product Cancellations
EPA Registration Number | Product Name
264-934 | Gustafson Reldan 4E Insecticide
62719-43 | Reldan 4E

Table 2 of this unit includes the names and addresses of record for all registrants of the products in Table 1 of this unit, in sequence by EPA company number. Please note, Gustafson Reldan 4E Insecticide (7501-41) was transferred to Bayer Cropscience LLP (264-934) in May 2005.

Table 2.—Registrants of Cancelled and/or Amended Chlorpyrifos-methyl Products
EPA Company Number | Company Name and Address
264 | Bayer Cropscience LP 2 T.W. Alexander Drive Research Triangle Park, NC 27709
62719 | Dow Agrosciences LLC 9330 Zionsville Rd, 308/2E Indianapolis, Indiana 46268

III. Summary of Public Comments Received and Agency Response to Comments

The Agency received comments on the notice that merited its further review of the requests. The Agency granted an extension of the existing registration of Gustafson Reldan 4E Insecticide and Reldan 4E until an equally effective stored grain product was registered. Storicide II, for broad-spectrum control of stored grain insects, was conditionally registered on October 27, 2004.

IV. Cancellation Order

Pursuant to FIFRA section 6(f), EPA hereby approves the requested cancellations of chlorpyrifos-methyl registrations identified in Table 1 of Unit II. Accordingly, the Agency orders that the chlorpyrifos-methyl product registrations identified in Table 1 of Unit II. are hereby canceled. Any distribution, sale, or use of existing stocks of the products identified in Table 1 of Unit II. in a manner inconsistent with any of the Provisions for Disposition of Existing Stocks set forth in Unit VI will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

For the purposes of this Order, the term “existing stocks” is defined as those stocks of registered pesticide products which are currently in the United States and which were packaged, labeled, and released for shipment prior to the effective date of the cancellation action. The cancellation order issued in this notice includes the following existing stocks provisions.

A. Distribution or Sale

The distribution or sale of existing stocks will not be lawful under FIFRA with the date of this cancellation order except for the purposes of returns and relabeling, shipping such stocks for export consistent with the requirements of section 17 of FIFRA, or for proper disposal.

B. Use of Existing Stocks

Use of existing stocks will not be lawful after December 7, 2009 in the Federal Register provided such use is in accordance with the provisions of the existing labeling of the product.

List of Subjects

Environmental protection, Pesticides and pests.

Dated: November 20, 2007.
Steven Bradbury,
Director, Special Review and Reregistration Division, Office of Pesticide Programs.

[FR Doc. E7-23300 Filed 12-4-07; 8:45 am]

BILLING CODE 6560-50-S